DEPARTMENT OF COMMERCE

International Trade Administration

[A-583-859]

Steel Concrete Reinforcing Bar From Taiwan: Antidumping Duty Order

AGENCY: Enforcement and Compliance, International Trade Administration, Department of Commerce.

ACTION: Notice.

SUMMARY: Based on an affirmative final determination by the Department of Commerce (the Department) and the International Trade Commission (ITC), the Department is issuing the antidumping duty (AD) order on steel concrete reinforcing bar (rebar) from Taiwan.

DATES: Applicable: October 2, 2017.

FOR FURTHER INFORMATION CONTACT: Jun Jack Zhao or Kathryn Wallace at (202) 482-1396 and (202) 482-6251, respectively, AD/CVD Operations, Office VII, Enforcement and Compliance, International Trade Administration, Department of Commerce, 1401 Constitution Avenue NW., Washington, DC 20230.

SUPPLEMENTARY INFORMATION:

Background

In accordance with sections 735(d) and 777(i)(1) of the Tariff Act of 1930, as amended (the Act) and 19 CFR 351.210(c), on June 27, 2017 the Department published its affirmative final determination in the less-than-fair-value (LTFV) investigation of rebar from Taiwan.¹ On September 11, 2017, the ITC notified the Department of its final determination that an industry in the United States is materially injured by reason of LTFV imports of subject merchandise from Taiwan within the meaning of 735(b)(1)(A)(i) of the Act.² On September 15, the ITC published its final determination in the Federal Register.³

¹ See Steel Concrete Reinforcing Bar from Taiwan: Final Determination of Sales at Less Than Fair Value, 82 FR 34925 (June 27, 2017) (Final Determination).

² See Letter from the ITC to the Honorable Gary Taverman, September 11, 2017 (Notification of ITC Final Determination); see also Steel Concrete Reinforcing Bar from Taiwan, Investigation No. 731-TA-1339 (Final) (September 2017).

³ See Steel Concrete Reinforcing Bar from Taiwan, 82 FR 43403 (September 15, 2017).

Scope of the Order

The product covered by this order is rebar from Taiwan. For a complete description of the scope of the order, see the Appendix to this notice.

Antidumping Duty Order

In accordance with section 735(d) of the Act, the ITC notified the Department of its final determination in this investigation, in which it found that an industry in the United States is materially injured by reason of imports of rebar from Taiwan. Therefore, in accordance with section 735(c)(2) of the Act, we are issuing this antidumping duty order. Because the ITC determined that imports of rebar from Taiwan are materially injuring a U.S. industry, unliquidated entries of such merchandise from Taiwan, entered or withdrawn from warehouse for consumption, are subject to the assessment of antidumping duties.

Therefore, in accordance with section 736(a)(1) of the Act, the Department will direct U.S. Customs and Border Protection (CBP) to assess, upon further instruction by the Department, antidumping duties equal to the amount by which the normal value of the merchandise exceeds the export price (or constructed export price) of the merchandise, for all relevant entries of rebar from Taiwan. Antidumping duties will be assessed on unliquidated entries of rebar from Taiwan entered, or withdrawn from warehouse, for consumption on or after March 7, 2017, the date of publication of the Preliminary Determination,⁴ but will not include entries occurring after the expiration of the provisional measures period and before publication in the Federal Register of the ITC's injury determination, as further described below.

⁴ See Steel Concrete Reinforcing Bar from Taiwan: Preliminary Affirmative Determination of Sales at Less Than Fair Value, 82 FR 12800 (March 7, 2017) (Preliminary Determination).

Suspension of Liquidation

In accordance with section 735(c)(1)(B) of the Act, the Department will instruct CBP to continue to suspend liquidation of all relevant entries of rebar from Taiwan, effective the date of publication of the ITC's notice of final determination in the Federal Register. These instructions suspending liquidation will remain in effect until further notice.

The Department will also instruct CBP to require cash deposits for estimated antidumping duties equal to the estimated weighted-average dumping margins indicated below. Accordingly, effective September 15, 2017, the date of publication of the ITC's final affirmative determination in the Federal Register, CBP will require, at the same time as importers would normally deposit estimated duties on this subject merchandise, a cash deposit equal to the estimated weighted-average dumping margins listed below.⁵ The relevant all-others rates apply to all producers or exporters not specifically listed below.

⁵ See section 736(a)(3) of the Act.

Provisional Measures

Section 733(d) of the Act states that the suspension of liquidation pursuant to an affirmative preliminary determination may not remain in effect for more than four months, except where exporters representing a significant proportion of exports of the subject merchandise request the Department to extend that four-month period to no more than six months. At the request of exporters that account for a significant proportion of rebar from Taiwan, the Department extended the four-month period to six months in this case.⁶ The Department published the preliminary determination on March 7, 2017. Therefore, the extended period, beginning on the date of publication of the preliminary determination, ended on September 3, 2017. Furthermore, section 737(b) of the Act states that the collection of final cash deposits will begin on the date of publication of the ITC's final injury determination.

⁶ See Preliminary Determination 82 FR at 12801.

Therefore, in accordance with section 733(d) of the Act and our practice, we will instruct CBP to terminate the suspension of liquidation and to liquidate, without regard to antidumping duties, unliquidated entries of rebar from Taiwan entered, or withdrawn from warehouse, for consumption after September 3, 2017, until and through September 14, 2017, the day preceding the date of publication of the ITC's final injury determination in the Federal Register.

Estimated Weighted-Average Dumping Margins

The weighted-average antidumping duty margin percentages are as follows:

Exporter/manufacturer | Weighted- average dumping margins (percent)
Power Steel Co., Ltd | 3.50
Lo-Toun Steel and Iron Works Co., Ltd | 32.01
All-Others | 3.50

Notification to Interested Parties

This notice constitutes the antidumping duty order with respect to rebar from Taiwan, pursuant to section 736(a) of the Act. Interested parties can find a list of antidumping duty orders currently in effect at http://enforcement.trade.gov/stats/iastats1.html.

This order is issued and published in accordance with section 736(a) of the Act and 19 CFR 351.211(b).

Dated: September 25, 2017.
Carole Showers,
Executive Director, Office of Policy performing the duties of Deputy Assistant Secretary for Enforcement and Compliance.

Appendix

Scope of the Order

The merchandise subject to this order is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject countries or a third country, including but not limited to cutting, grinding, galvanizing, painting, coating, or any other processing that would not otherwise remove the merchandise from the scope of this order if performed in the country of manufacture of the rebar.

Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

[FR Doc. 2017-20925 Filed 9-29-17; 8:45 am]

BILLING CODE 3510-DS-P